DEPARTMENT OF THE INTERIOR

Bureau of Land Management

[CO-840-07-1610-DQ-241A]

Southwest Resource Advisory Council; Canyons of the Ancients National Monument Subgroup Meeting

AGENCY: Bureau of Land Management, Interior.

ACTION: Notice of meeting.

SUMMARY: In accordance with the Federal Land Policy and Management Act (FLPMA) and the Federal Advisory Committee Act of 1972 (FACA), the U.S. Department of the Interior, Bureau of Land Management (BLM) Southwest Resource Advisory Council (SWRAC) Canyons of the Ancients National Monument (Monument) Subgroup, will meet as directed below.

DATES: The Southwest RAC Canyons of the Ancients National Monument (Monument) Subgroup will meet on November 30, 2007 at the Anasazi Heritage Center in Dolores, Colorado. The meeting will begin at 9 a.m. Two public comment periods are planned and will begin at approximately 11:30 a.m. and 2:30 p.m. The meeting will adjourn at approximately 4 p.m. A second meeting will be held December 7, 2007 at the Anasazi Heritage Center in Dolores, Colorado. The meeting will begin at 9 a.m. Two public comment periods are planned and will begin at approximately 11:30 a.m. and 2:30 p.m. The meeting will adjourn at approximately 4 p.m.

ADDRESSES: The Southwest RAC Canyons of the Ancients National Monument (Monument) Subgroup meeting will be held at the Anasazi Heritage Center, located at 27501 Highway 184, in Dolores, Colorao.

FOR FURTHER INFORMATION CONTACT: LouAnn Jacobson, Monument Manager or Heather Musclow, Monument Planner, Anasazi Heritage Center, 27501 Hwy 184, Dolores, Colorado 81323; Telephone (970) 882-5600.

SUPPLEMENTARY INFORMATION: The 11-member Subgroup provides counsel and advice to the full Council for its consideration and deliberation concerning development and implementation of a management plan developed in accordance with FLMPA, for public lands within the Monument. We plan to discuss include the content of the Monument's Draft Resource Management Plan/Draft Environmental Impact Statement and other issues as appropriate.

The meeting is open to the public and includes a time set aside for public comment. Interested persons may make oral statements at the meeting or submit written statements at any meeting. Per-person time limits for oral statements may be set to allow all interested persons an opportunity to speak.

Summary minutes of all Subgroup meetings will be maintained at the Anasazi Heritage Center in Dolores, Colorado. They are available for public inspection and reproduction during regular business hours within thirty (30) days of the meeting. In addition, minutes and other information concerning the Subgroup can be obtained from the Monument planning Web site at: http://www.blm.gov/rmp/canm which will be updated following each Subgroup meeting.

Dated: October 26, 2007.
LouAnn Jacobson,
Monument Manager, Canyons of the Ancients National Monument.

[FR Doc. E7-21580 Filed 11-1-07; 8:45 am]

BILLING CODE 4310-JB-P